FEDERAL COMMUNICATIONS COMMISSION

Information Collections Being Submitted for Review and Approval to the Office of Management and Budget

AGENCY: Federal Communications Commission.

ACTION: Notice and request for comments.

SUMMARY: The Federal Communications Commission, as part of its continuing effort to reduce paperwork burden invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 27, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via e-mail to Nicholas_A._Fraser@omb.eop.gov and to the Federal Communications Commission via e-mail to PRA@fcc.gov and Cathy.Williams@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Cathy Williams on (202) 418-2918.

SUPPLEMENTARY INFORMATION: OMB Control Number: 3060-xxxx.

Title: Satellite Digital Audio Radio Service (SDARS).

Form No.: Not applicable.

Type of Review: New information collection.

Respondents: Business and other for-profit.

Number of Respondents/Responses: 1 respondent; 74 responses.

Estimated Time per Response: 4-12 hours per response.

Frequency of Response: On occasion reporting requirement; recordkeeping requirement: Third party disclosure requirement.

Obligation to Respond: Required to obtain or retain benefits. The statutory authority for this collection is contained in Sections 47 U.S.C. 701-744; Sections 4, 301, 302, 303, 307, 309, and 332 of the Communications Act, as amended 47 U.S.C. 154, 301, 302a, 303, 307, 309, and 332.

Total Annual Burden: 400 hours.

Annual Cost Burden: $171,320.

Privacy Act Impact Assessment: No impact(s).

Nature and Extent of Confidentiality: In general, there is no need for confidentiality with this collection of information.

Needs and Uses: The Federal Communications Commission (“Commission”) is requesting approval from the Office of Management and Budget (OMB) to establish a new information collection titled, “Satellite Digital Audio Radio Service (SDARS), Rule Sections: 25.144(e)(3), (e)(8), (e)(9); 25.263(b), (c).”

The Commission released a Second Report and Order (FCC 10-82; IB Docket No. 95-91) on May 20, 2010, in which the agency accomplished three goals: (1) Adopted technical rules governing the operation of SDARS repeaters that will not constrain their function or deployment but will limit the potential for harmful interference to adjacent Wireless Communications Service (WCS) spectrum users by requiring SDARS licensees to notify WCS licensees prior to the deployment of new or modified SDARS terrestrial repeaters; (2) established a blanket-licensing regime for repeaters up to 12 kilowatts (kW) average equivalent isotropically radiated power (EIRP) to facilitate the flexible deployment of SDARS repeaters while ensuring that such repeater operations comply with the Commission's rules regarding RF safety, antenna marking and lighting, equipment authorization and international agreements; and, (3) established site-by-site licensing regime for repeaters operating above 12 kW (average) EIRP, or otherwise not in compliance with the rules adopted for SDARS terrestrial repeater operations.

The information collection requirements accounted for in this collection are necessary to determine the technical and legal qualifications of SDARS applicants or licensees to operate a station, transfer or assign a license, and to determine whether the authorization is in the public interest, convenience and necessity. Without such information, the Commission could not determine whether to permit respondents to provide SDARS services in the U.S. Therefore, the Commission would be unable to fulfill its statutory responsibilities in accordance with the Communications Act of 1934, as amended.

Federal Communications Commission.
Marlene H. Dortch,
Secretary, Office of the Secretary, Office of Managing Director.

[FR Doc. 2011-13071 Filed 5-25-11; 8:45 am]

BILLING CODE 6712-01-P